DEPARTMENT OF HEALTH AND HUMAN SERVICES

Administration for Children and Families

[Program Announcement No. ACF/ACYF/HS FY 2000-02]

Fiscal Year 2000 Discretionary Announcement for University-Head Start Partnerships and Graduate Student Head Start Research Grants: Availability of Funds and Request for Proposals

AGENCY: Administration on Children, Youth and Families, ACF, DHHS.

ACTION: Notice.

Statutory Authority: The Head Start Act, as amended 42 U.S.C. 9801 et. seq. CFDA: 13.600

SUMMARY: The Administration for Children and Families, Administration on Children, Youth and Families, Head Start Bureau announces the availability of funds for two Priority Areas; University-Head Start Partnerships (1.01) and Graduate Student Head Start Research Grants (1.02). These priority areas will support research activities in the areas of infant and toddler development within the cultural context, school readiness, mental health and field-initiated research which will increase our knowledge of low-income children's development for the purpose of improving services or have significant policy implications.

DATES: The closing date for receipt of applications is 5 P.M. EDT April 24, 2000.

Note: Applications should be submitted to the ACYF Operations Center at: 1815 N. Fort Myer Drive, Suite 300, Arlington, Virginia 22209. However, prior to preparing and submitting an application, in order to satisfactorily compete under this announcement it will be necessary for potential applicants to read the full announcement which is available through the addresses listed below.

ADDRESSES: applications, including all necessary forms can be downloaded from the Head Start web site at www.acf.dhhs.gov/programs/hsb. The web site also contains a listing of all Head Start and Early Start programs. Hard copies of the application may be obtained by writing or calling the Operations Center or sending an email or hsr@lcgnet.com

FOR FURTHER INFORMATION CONTACT: ACYF Operations Center at: 1815 N. Fort Myer Drive, Suite 300, Arlington, Virginia 22209 or (1-800) 351-2293.

SUPPLEMENTARY INFORMATION:

Priority Areas

Priority Area 1.01 University-Head Start Partnerships

Eligible Applicants: Universities and four-year colleges on behalf of a faculty member who holds a doctorate or equivalent in their respective field.

Project Duration: The announcement for Priority Area 1.01 is soliciting applications for project periods of three years, with the first year as a planning grant. Awards, on a competitive basis, will be for the first one-year planning budget period. Applications for continuation funds under these awards beyond the first-year budget period, but within the established project period, will be entertained in subsequent years on a non-competitive basis, subject to availability of funds, satisfactory progress of the grantee, and a determination that continued funding would be in the best interests of the Government.

Federal Share of Project Costs: The maximum Federal share is $75,000 for the first-year budget period. The Federal share for the subsequent years is approximately $150,000 for each year of the project period. The Federal Share in inclusive of indirect costs.

Matching Requirements: There are no matching requirements.

Anticipated Number of Projects to be Funded: It is anticipated that 4-6 projects will be funded.

Priority Area 1.02 Master's-Level and Doctoral Head Start Research Grants

Eligible Applicants: Institutions of higher education on behalf of graduate students at both the Master's and Doctorate levels. Doctoral students must have completed their Master's degree or equivalent in that field prior to applying for this grant or by the time grants are awarded, and have sent formal notification of having been granted the degree to ACYF. To be eligible to administer the grant on behalf of the student, the institution must be fully accredited by one of the regional accrediting commissions recognized by the Department of Education and the Council on Post-Secondary Accreditation. In addition, the specific graduate student on whose behalf the application is made must be identified.

Project Duration: The announcement for Priority Area 1.02 is soliciting applications for project periods up to two years. Awards, on a competitive basis, will be for a one-year budget period, although project periods may be for two years. It should be noted, that if the graduate student, on whose behalf the university is applying, expects to receive a degree by the end of the first year budget period, the applicant should request a one-year project period only. A second year budget will not be granted if the student has graduated by the end of the first year. Applications for continuation grants will be entertained in the subsequent year on a non-competitive basis, subject to availability of funds, satisfactory progress of the grantee and a determination that continued funding would be in the best interest of the Government.

Federal Share of Project Costs: The maximum Federal share shall range between $10,000-$20,000 for the first-year budget period or a maximum of $40,000 for a two-year project period.

Matching Requirements: There are no matching requirements.

Anticipated Number of Projects to be Funded: It is anticipated that between 5 and 10 projects will be funded with an unspecified mixture of master's-level and doctoral level applicants. No university will be funded for more than one candidate, unless there are no other approved applications. Applications from the master's-level students will be evaluated separately from the applications form doctoral-level students.

Criteria for Priority Areas 1.01 and 1.02

Reviewers will consider the following factors when assigning points.

1. Results or Benefits Expected—25 points

• The research questions are clearly stated.

• The extent to which the questions are of importance and relevance for low-income children's development and welfare.

• The extent to which the research study makes a significant contribution to the knowledge base.

• The extent to which the literature review is current and comprehensive and supports the need for the study, the questions to be addressed or the hypotheses to be tested.

• The extent to which the questions that will be addressed or the hypotheses that will be tested are sufficient for meeting the stated objectives.

2. Approach—40 points

• The extent to which the research design is appropriate and sufficient for addressing the questions of the study.

• The extent to which child outcomes are the major focus of the study.

• The extent to which the planned research specifies the measures to be used and the analyses to be conducted.

• The extent to which the planned measures are appropriate and sufficient for the questions of the study.

• The extent to which the planned measures and analyses both reflect knowledge and use of state-of-the-art measures and analytic techniques and advance the state-of-the-art.

• The extent to which the analytic techniques are appropriate for the question under consideration.

• The extent to which the proposed sample size is sufficient for the study.

• The scope of the project is reasonable for the funds available for these grants.

• The extent to which the planned approach reflects sufficient input from and partnership with the Head Start or Early Head Start program.

3. Staff and Position Data—35 points

• The extent to which the principal investigator (or for 1.02, the graduate student) and other key research staff possess the research expertise necessary to conduct the study as demonstrated in the application and information contained in their vitae.

• For Priority Area 1.01 the principal investigator(s) has earned a doctorate or equivalent in the relevant field and has first or second author publications in major research journals.

• The extent to which the proposed staff reflect an understanding of and sensitivity to the issues of working in a community setting and in partnership with Head Start/Early Head Start program staff and parents.

• The adequacy of the time devoted to this project by the principal investigator and other key staff in order to ensure a high level of professional input and attention. For graduate students, the adequacy of the supervision provided by the graduate student's mentor.

Required Notification of the Single Point of Contact

This program is covered under Executive Order 12372, Intergovernmental Review of Federal Programs, and 45 CFR part 100, Intergovernmental Review of Department of Health and Human Services Program and Activities. Under the Order, States may design their own processes for reviewing and commenting on proposed Federal assistance under covered programs.

All States and Territories except Alabama, Alaska, Colorado, Connecticut, Hawaii, Idaho, Kansas, Louisiana, Massachusetts, Minnesota, Montana, Nebraska, New Jersey, New York, Ohio, Oklahoma, Oregon, Palau, Pennsylvania, South Dakota, Tennessee, Vermont, Virginia, Washington, and American Samoa have elected to participate in the Executive Order process and have established Single Points of Contact (SPOCs). Applicants from these twenty-three jurisdictions need take no action regarding E.O. 12372. Applicants for projects to be administered by Federally-recognized Indian Tribes are also exempt from the requirements of E.O. 12372. Otherwise, applicants should contact their SPOCs as soon as possible to alert them of the prospective applications and receive any necessary instructions. Applicants must submit any required material to the SPOCs as soon as possible so that the program office can obtain and review SPOC comments as part of the award process. It is imperative that the applicant submit all required materials, if any, to the SPOC and indicate the date of this submittal (or the date of contact if no submittal is required) on the Standard Form 424, item 16a.

Under 45 CFR 100.8(a)(2), a SPOC has 60 days from the application deadline to comment on proposed new or competing continuation awards.

SPOCs are encouraged to eliminate the submission of routine endorsements as official recommendations.

Additionally, SPOCs are requested to clearly differentiate between mere advisory comments and those official State process recommendations which may trigger the accommodate or explain rule.

When comments are submitted directly to ACF, they should be addressed to: William Wilson, Head Start Bureau, 330 C Street, S.W., Washington, D.C. 20447, Attn: Head Start University Partnerships or Graduate Student Head Start Research. A list of the Single Points of Contact for each State and Territory can be found on the web site http://www.dhhs.gov/progorg/grantsnet/laws-reg/spoq0695.htm.

Dated: February 16, 2000.
Patricia Montoya,
Commissioner, Administration on Children, Youth and Families.

[FR Doc. 00-4277 Filed 2-23-00; 8:45 am]

BILLING CODE 4184-01-M